DEPARTMENT OF ENERGY

Federal Energy Regulatory Commission

Notice of Application To Amend License, and Soliciting Comments, Motions To Intervene, and Protests

July 27, 2000.

Take notice that the following hydroelectric application has been filed with the Commission and is available for public inspection:

a. Application Type: Proposal to divert water released from Fairview Dam during concrete repairs.

b. Project No.: 2290-042.

c. Date Filed: June 27, 2000.

d. Applicant: Southern California Edison.

e. Name of Project: Kern River No. 3 Hydroelectric Project.

f. Location: The Project is located on the North Fork Kern River, Salmon and Corral Creeks in Tulare and Kern Counties, California.The project utilizes federal lands.

g. Filed Pursuant to: Federal Power Act, 16 U.S.C. § 791(a)-825(r).

h. Applicant Contact: Mr. Mike Cruz, Southern California Edison, 300 N. Lone Hill Avenue, San Dimas, CA 91773. Tel. (909) 394-8694.

i. FERC Contact: Any questions on this notice should be addressed to Mr. John K. Novak at (202) 219-2828 or by e-mail at John.novak@ferc.fed.us.

j. Deadline for filing comments and/or motions: August 22, 2000.

Please include project number (P-2290-042) on any comments or motions filed.

All documents (original and eight copies) should be filed with: David P. Boergers, Secretary, Federal Energy Regulatory Commission, 888 First Street, NE., Washington, DC 20426.

k. Description of Filing: Southern California Edison (Edison) filed plans and specifications for resurfacing the Fairview Dam to repair spalled concrete and seal the surface with a protective waterproof coating. In order to conduct this work in dry conditions, Edison will divert the minimum flow released from the dam to a point about 200 feet downstream of the dam. Edison proposes to start activities in late August 2000 and expects to take about 8-10 weeks. The Fairview dam is listed on the National Register of Historic Places.

l. Location of the Application: A copy of the application is available for inspection and reproduction at the Commission's Public Reference Room, located at 888 First Street, NE., Room 2A, Washington, DC 20426, or by calling (202) 208-1371. This filing may be viewed on http://www.ferc.fed.us/online/rims.htm [call (202) 208-2222 for assistance]. A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Agency Comments—Federal, State, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 00-19458 Filed 8-1-00; 8:45 am]

BILLING CODE 6717-01-M